ENVIRONMENTAL PROTECTION AGENCY

40 CFR Part 52

[EPA-R09-OAR-2018-0146; FRL-10005-67-Region 9]

Approval of Air Quality Implementation Plans; California; Ventura County; 8-Hour Ozone Nonattainment Area Requirements

AGENCY: Environmental Protection Agency (EPA).

ACTION: Final rule.

SUMMARY: The Environmental Protection Agency (EPA) is taking final action to approve portions of two state implementation plan (SIP) revisions submitted by the State of California to meet Clean Air Act (CAA or “the Act”) requirements for the 2008 8-hour ozone national ambient air quality standards (NAAQS or “standards”) in the Ventura County, California (“Ventura County”) ozone nonattainment area. The two SIP revisions include the “Final 2016 Ventura County Air Quality Management Plan,” and the Ventura County portion of the “2018 Updates to the California State Implementation Plan.” In this action, the EPA refers to these submittals collectively as the “2016 Ventura County Ozone SIP.” The 2016 Ventura County Ozone SIP addresses the nonattainment area requirements for the 2008 ozone NAAQS, including the requirements for an emissions inventory, attainment demonstration, reasonable further progress, reasonably available control measures, contingency measures, among others; and establishes motor vehicle emissions budgets. The EPA is taking final action to approve the 2016 Ventura County Ozone SIP as meeting all the applicable ozone nonattainment area requirements except for the contingency measure requirement, for which the EPA will be taking final action in a separate document.

DATES: This rule will be effective on March 30, 2020.

ADDRESSES: The EPA has established a docket for this action under Docket ID No. EPA-R09-OAR-2018-0146. All documents in the docket are listed on the https://www.regulations.gov website. Although listed in the index, some information is not publicly available, e.g., Confidential Business Information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information.

FOR FURTHER INFORMATION CONTACT: John Kelly, Air Planning Office (AIR-2), EPA Region IX, 75 Hawthorne Street, San Francisco, CA 94105, (415) 947-4151, or by email at kelly.johnj@epa.gov.

SUPPLEMENTARY INFORMATION:

Table of Contents

I. Summary of the Proposed Action

II. Public Comments and EPA Responses

III. Final Action

IV. Statutory and Executive Order Reviews

I. Summary of the Proposed Action

On December 20, 2019 (84 FR 70109), the EPA proposed to approve, under CAA section 110(k)(3), and to approve conditionally, under CAA section 110(k)(4), all or portions of submittals from the California Air Resources Board (CARB) of revisions to the California SIP for the Ventura County ozone nonattainment area for the 2008 ozone NAAQS.¹ The relevant SIP revisions include Ventura County Air Pollution Control District's (VCAPCD's or “District's”) Final 2016 Ventura County Air Quality Management Plan (“2016 Ventura County AQMP”), and the Ventura County portion of CARB's 2018 Updates to the California State Implementation Plan (“2018 SIP Update”). Collectively, we refer to the 2016 Ventura County AQMP and the relevant portion of the 2018 SIP Update as the “2016 Ventura County Ozone SIP,” and we refer to our December 20, 2019 proposed rule as the “proposed rule.”

¹ Ventura County lies within California's South Central Coast Air Basin, which includes the counties of Santa Barbara and San Luis Obispo in addition to Ventura County. The Ventura County ozone nonattainment area for the 2008 ozone NAAQS includes the entire county except for the Channel Islands of Anacapa and San Nicolas Islands. See 40 CFR 81.305.

Our proposed conditional approval of the contingency measure element of the 2016 Ventura County AQMP relied on specific commitments: (1) From the District to modify an existing rule or rules that would provide for additional emissions reductions in the event that Ventura County fails to meet a reasonable further progress (RFP) milestone or fails to attain the 2008 ozone NAAQS by the applicable attainment date, and (2) from CARB to submit the revised District rule(s) to the EPA as a SIP revision within 12 months of our final action.² For more information on the SIP revision submittals and related commitments, please see our proposed rule.

² Letter dated August 16, 2019 from Michael Villegas, Air Pollution Control Officer, VCAPCD, to Richard Corey, Executive Officer, CARB; and letter dated August 30, 2019 from Richard W. Corey, Executive Officer, CARB to Mike Stoker, Regional Administrator, Region IX.

In our proposed rule, we provided background information on the ozone standards,³ area designations, and related SIP revision requirements under the CAA, and the EPA's implementing regulations for the 2008 ozone standards, referred to as the 2008 Ozone SIP Requirements Rule (“2008 Ozone SRR”). To summarize, the Ventura County ozone nonattainment area is classified as Serious for the 2008 ozone standards, and the 2016 Ventura County Ozone SIP was developed to address the requirements for this Serious nonattainment area for the 2008 ozone NAAQS.

³ Ground-level ozone pollution is formed from the reaction of volatile organic compounds (VOC) and oxides of nitrogen (NOX) in the presence of sunlight. The 2008 ozone NAAQS is 0.075 parts per million (ppm) (eight-hour average). CARB refers to reactive organic gases (ROG) in some of its ozone-related submittals. The CAA and the EPA's regulations refer to VOC, rather than ROG, but both terms cover essentially the same set of gases. In this final rule, we use the Federal term (VOC) to refer to this set of gases.

For our proposed rule, we reviewed the various SIP elements contained in the 2016 Ventura County Ozone SIP, evaluated them for compliance with statutory and regulatory requirements, and concluded that they meet all applicable requirements with the exception of the contingency measure element. More specifically, in our proposal rule, we based our proposed actions on the following determinations:

• CARB and the District have met all applicable procedural requirements for public notice and hearing prior to the adoption and submittal of the 2016 Ventura County AQMP and 2018 SIP Update (see 84 FR 70109, 70112-70113 from the proposed rule);

• The 2012 base year emissions inventory from the 2016 Ventura County AQMP is comprehensive, accurate, and current and thereby meets the requirements of CAA sections 172(c)(3) and 182(a)(1) and 40 CFR 51.1115 for the 2008 ozone NAAQS, and future year baseline projections reflect appropriate calculation methods and the latest planning assumptions and are properly supported by SIP-approved stationary and mobile source measures (see 84 FR 70109, 70113-70115 from the proposed rule);

• The emissions statement element of the 2016 Ventura County AQMP meets the requirements for emissions statements under CAA section 182(a)(3)(B) and 40 CFR 51.1102 for the 2008 ozone NAAQS (see 84 FR 70109, 70115-70116 from the proposed rule);

• The process followed by the District to identify reasonably available control measures (RACM) is generally consistent with the EPA's recommendations; the District's rules provide for the implementation of RACM for stationary and area sources of oxides of nitrogen (NOX) and volatile organic compounds (VOC); CARB and the Southern California Association of Governments (SCAG) provide for the implementation of RACM for mobile sources of NOX and VOC; there are no additional RACM that would advance attainment of the 2008 ozone NAAQS in Ventura County by at least one year; and therefore, the 2016 Ventura County AQMP provide for the implementation of all RACM as required by CAA section 172(c)(1) and 40 CFR 51.1112(c) for the 2008 ozone NAAQS (see 84 FR 70109, 70116-70118 from the proposed rule);

• The photochemical modeling in the 2016 Ventura County AQMP shows that existing CARB and District control measures are sufficient to attain the 2008 ozone NAAQS by the applicable attainment date in Ventura County; given the documentation in the 2016 Ventura County AQMP of modeling procedures and good model performance, the modeling is adequate to support the attainment demonstration for the 2008 ozone NAAQS; and therefore, the 2016 Ventura County AQMP meets the attainment demonstration requirements of CAA section 182(c)(2)(A) and 40 CFR 51.1108 (see 84 FR 70109, 70118-70121 from the proposed rule);

• As provided in our SRR, the previously-approved 15 percent rate-of-progress (ROP) demonstration for the 1-hour ozone NAAQS for Ventura County meets the ROP requirements of CAA section 182(b)(1) for Ventura County for the 2008 ozone NAAQS given that the boundaries of the Ventura County nonattainment area for the 1-hour ozone NAAQS and the 2008 ozone NAAQS are the same (see 84 FR 70109, 70121-70123 from the proposed rule);

• The RFP demonstration in the 2018 SIP Update provides for emissions reductions of VOC or NOX of at least 3 percent per year on average for each three-year period from a 2011 baseline year through the attainment year and thereby meets the requirements of CAA sections 172(c)(2), 182(b)(1), and 182(c)(2)(B), and 40 CFR 51.1110(a)(2)(ii) for the 2008 ozone NAAQS (see 84 FR 70109, 70121-70123 from the proposed rule);

• The motor vehicle emissions budgets for the RFP milestone/attainment year of 2020 from the 2016 Ventura County AQMP are consistent with the RFP and attainment demonstrations, are clearly identified and precisely quantified, and meet all other applicable statutory and regulatory requirements in 40 CFR 93.118(e), including the adequacy criteria in 40 CFR 93.118(e)(4) and (5) (see 84 FR 70109, 70125-70127 from the proposed rule); ⁴

⁴ In light of CARB's request to limit the duration of the approval of the budgets in the 2018 SIP Update and in anticipation of the EPA's approval, in the near term, of an updated version of CARB's EMFAC (short for EMission FACtor) model for use in SIP development and transportation conformity in California to include updated vehicle mix and emissions data, we proposed to limit the duration of our approval of the budgets until replacement budgets have been found adequate. See 84 FR 70109, 70126-70127 from the proposed rule.

• The general conformity budgets in the 2016 AQMP are established for a set time period, cover both precursors of ozone, are precisely quantified, and are consistent with the RFP and attainment demonstrations for the 2008 ozone NAAQS in Ventura County (see 84 FR 70109, 70127-70128 from the proposed rule); and

• Through previous EPA approvals of the State's inspection and maintenance (I/M) program, the 1994 “Opt-Out Program” SIP revision, the 1993 Photochemical Assessment Monitoring Station (PAMS) SIP revision, and the 2018 annual monitoring network plan, we find that Ventura County meets the following requirements for the 2008 ozone NAAQS: The enhanced vehicle I/M requirements in CAA section 182(c)(3) and 40 CFR 51.1102; the clean fuels fleet program in CAA sections 182(c)(4) and 246 and 40 CFR 51.1102; and the enhanced ambient air monitoring requirements in CAA section 182(c)(1) and 40 CFR 51.1102 (see 84 FR 70109, 70128-70129 from the proposed rule).

With respect to the contingency measure element of the 2016 Ventura County Ozone SIP, we proposed to approve conditionally the element as meeting the requirements of CAA sections 172(c)(9) and 182(c)(9) for the 2008 ozone NAAQS, based on commitments by CARB and the District to supplement the element through submission of a SIP revision within one year of final conditional approval action that will include a revised District rule or rules. See 84 FR 70109, 70123-70125 from the proposed rule.⁵

⁵ We are not taking final action on the contingency measure element of the 2016 Ventura County Ozone SIP at this time but will do so in a separate final rule.

Please see our proposed rule for more information concerning the background for this action and for a more detailed discussion of the rationale for approval or conditional approval of the above-listed elements of the 2016 Ventura County Ozone SIP.

II. Public Comments and EPA Responses

The public comment period on the proposed rule opened on December 20, 2019, the date of its publication in the Federal Register, and closed on January 21, 2020. During this period, the EPA received five anonymous comments and one comment letter submitted by Air Law for All on behalf of the Center for Biological Diversity, the Center for Environmental Health and Citizens for Responsible Oil and Gas (collectively referred to herein as “CBD”).

Four of the anonymous commenters express overall support for the proposed action. The fifth anonymous commenter expresses opposition to the approach taken under the current Administration to environmental regulation in general and opposes our proposed action, without providing any specific comments on it, based on the assumption that it represents a rollback of environmental standards. The EPA is not responding to these five commenters, either because their comments are not adverse to, or because they are not pertinent to, the proposed action. The comment letter from CBD relates solely to our proposed conditional approval of the contingency measure element of the 2016 Ventura County Ozone SIP. We are not taking final action on the contingency measure element in this document, but will take final action on it in a separate final rule and will address CBD's comments at that time.

III. Final Action

For the reasons discussed in detail in the proposed rule and summarized herein, under CAA section 110(k)(3), the EPA is taking final action to approve as a revision to the California SIP the following portions of the 2016 Ventura County Ozone SIP submitted by CARB on April 11, 2017 and December 5, 2018:

• Base year emissions inventory element in the 2016 Ventura County AQMP as meeting the requirements of CAA sections 172(c)(3) and 182(a)(1) and 40 CFR 51.1115 for the 2008 ozone NAAQS;

• Emissions statement element in the 2016 Ventura County AQMP as meeting the requirements of CAA section 182(a)(3)(B) and 40 CFR 51.1102 for the 2008 ozone NAAQS;

• RACM demonstration element in the 2016 Ventura County AQMP as meeting the requirements of CAA section 172(c)(1) and 40 CFR 51.1112(c) for the 2008 ozone NAAQS;

• Attainment demonstration element for the 2008 ozone NAAQS in the 2016 Ventura County AQMP as meeting the requirements of CAA section 182(c)(2)(A) and 40 CFR 51.1108;

• ROP demonstration element in the 2016 Ventura County AQMP as meeting the requirements of CAA 182(b)(1) and 40 CFR 51.1110(a)(2) for the 2008 ozone NAAQS;

• RFP demonstration element in the 2018 SIP Update, as clarified in August 2019,⁶ as meeting the requirements of CAA sections 172(c)(2) and 182(c)(2)(B), and 40 CFR 51.1110(a)(2)(ii) for the 2008 ozone NAAQS;

⁶ Letter dated August 29, 2019, from Dr. Michael T. Benjamin, Chief, Air Quality Planning and Science Division, CARB, to Amy Zimpfer, Assistant Director, Air Division, EPA Region IX.

• Motor vehicle emissions budgets in the 2016 Ventura County AQMP for the RFP milestone/attainment year of 2020 (as shown below) because they are consistent with the RFP and attainment demonstrations for the 2008 ozone NAAQS proposed for approval herein and meet the other criteria in 40 CFR 93.118(e); and

Transportation Conformity Budgets for the 2008 Ozone NAAQS in Ventura County
[Summer planning inventory, tpd]
Budget year | VOC | NOX
2020 | 5 | 7
Source: 2016 Ventura County AQMP, Table 3-7, 52.

• General conformity budgets of VOC and NOX (as shown below) for Naval Base Ventura County (NBVC), as meeting the requirements of CAA section 176(c) and 40 CFR 93.161.

NBVC General Conformity Budgets for the 2008 Ozone NAAQS in Ventura County
[Summer planning inventory, tpy]
Budget year | VOC | NOX
2017 | 178.6 | 434.2
2018 | 184.8 | 447.6
2019 | 191.3 | 461.5
2020 | 198.0 | 475.9
Source: 2016 Ventura County Ozone AQMP, Table 4-9.

We are also taking final action to find that the:

• Enhanced vehicle inspection and maintenance program in Ventura County meets the requirements of CAA section 182(c)(3) and 40 CFR 51.1102 for the 2008 ozone NAAQS;

• California SIP revision to opt-out of the Federal Clean Fuels Fleet Program meets the requirements of CAA sections 182(c)(4)(A) and 246 and 40 CFR 51.1102 for the 2008 ozone NAAQS with respect to Ventura County; and

• Enhanced monitoring in Ventura County meets the requirements of CAA section 182(c)(1) and 40 CFR 51.1102 for the 2008 ozone NAAQS.⁷

⁷ Regarding other applicable requirements for the 2008 ozone NAAQS in Ventura County, the EPA has previously approved SIP revisions that address the nonattainment area requirements for implementation of RACT and Nonattainment New Source Review (NSR) for Ventura County for the 2008 ozone NAAQS. See 80 FR 2016 (January 15, 2015) (approval of Ventura County RACT SIP) and 84 FR 66074 (December 3, 2019) (approval of Ventura County Nonattainment NSR SIP).

With respect to the motor vehicle emissions budgets, we are limiting the duration of the approval of the budgets to last only until the effective date of the EPA's adequacy finding for any subsequently submitted budgets. We are doing so at CARB's request and in light of the benefits of using EMFAC2017-derived budgets prior to our taking final action on the future SIP revision that includes the updated budgets. Furthermore, we are determining that the submitted 2020 budgets included in the 2016 Ventura County AQMP are adequate for transportation conformity purposes.⁸

⁸ Pursuant to 40 CFR 93.118(f)(2)(iii), the EPA's adequacy determination is effective upon publication of this final rule in the Federal Register. Upon the effective date of the adequacy determination, the 2020 budgets from the 2016 Ventura County AQMP will replace the budgets that were previously found adequate for use in transportation conformity determinations (i.e., the 2009 budgets from the Ventura County Early Progress Plan (February 2008)).

We are not taking final action on the contingency measure element of the 2016 Ventura County Ozone SIP at this time but will do so in a separate final rule.

IV. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this action merely approves state plans as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide the EPA with the discretionary authority to address disproportionate human health or environmental effects with practical, appropriate, and legally permissible methods under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by April 27, 2020. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Nitrogen dioxide, Ozone, Reporting and recordkeeping requirements, Volatile organic compounds.

Authority: 42 U.S.C. 7401 et seq.

Dated: January 29, 2020.
Deborah Jordan,
Acting Regional Administrator, Region IX.

Chapter I, title 40 of the Code of Federal Regulations is amended as follows:

PART 52—APPROVAL AND PROMULGATION OF IMPLEMENTATION PLANS

1. The authority citation for part 52 continues to read as follows:

Authority: 42 U.S.C. 7401 et seq.

Subpart F—California

2. Section 52.220 is amended by adding paragraphs (c)(514)(ii)(A)(4) and (c)(532) to read as follows:

§ 52.220 Identification of plan—in part.

* * * * *

(c) * * *

(514) * * *

(ii) * * *

(A) * * *

(4) 2018 Updates to the California State Implementation Plan, adopted on October 25, 2018, chapter III (“SIP Elements for Ventura County”), excluding section III.C (“Contingency Measures”); and pages A-7 through A-10 of appendix A (“Nonattainment Area Inventories”), only.

* * * * *

(532) The following plan was submitted on April 11, 2017, by the Governor's designee.

(i) [Reserved]

(ii) Additional materials. (A) Ventura County Air Pollution Control District.

(1) Final 2016 Ventura County Air Quality Management Plan, adopted February 14, 2017, excluding chapter 7 (“Contingency Measures”).

(2) [Reserved]

(B) [Reserved]

3. Section 52.244 is amended by adding paragraph (a)(9) to read as follows:

§ 52.244 Motor vehicle emissions budgets.

(a) * * *

(9) Ventura County, approved March 30, 2020.

* * * * *

[FR Doc. 2020-03246 Filed 2-26-20; 8:45 am]

BILLING CODE 6560-50-P